Proclamation 7356 of October 6, 2000

National Children's Day, 2000

By the President of the United States of America

A Proclamation

Children hold a special place in our lives, and raising healthy, happy children is the greatest success any parent can hope to achieve; it should also be an important goal of every member of society, because children are profoundly influenced by the people and environment around them. The strongest influence, of course, is often child's family; but good schools and nurturing communities also play a vital role in helping children reach their full potential.

Over the past 7-1/2 years, my Administration has worked with families and communities across the country to meet the needs of America's children, and we can be proud of what we have accomplished together. We have made education one of our highest priorities, to ensure that every child is empowered with the knowledge and skills necessary to achieve personal fulfillment and success. By expanding Head Start and Early Head Start for preschoolers; promoting high academic standards, smaller class sizes, teacher quality, and charter schools for primary and secondary school students; and providing loans, scholarships, and tax credits so that millions of young Americans can attend college, we are building a world-class education system that will serve our children well.

We have achieved other important legislative victories for children and families, including a $500 child tax credit, a $1 per hour increase in the minimum wage, expanding the Earned Income Tax Credit, passing the Family and Medical Leave Act, enacting the largest expansion of health insurance for children ever, and creating incentives to move more children from foster care to safe, loving, and permanent homes. As a result of these victories, the child poverty rate in our country has dropped by 22 percent since 1993; millions of working parents have taken time off to care for a new child or sick relative; child immunization rates are at an all-time high, with 90 percent of toddlers receiving crucial vaccinations; and adoptions increased nearly 65 percent between 1996 and 1999.

We have shown our commitment to ensuring that every child grows up in a safe and nurturing environment through additional measures such as teen pregnancy prevention efforts, welfare reform that moves families from economic dependency to self-sufficiency, expanded access to affordable housing and homeownership, and responsible fatherhood initiatives to ensure that fathers provide both the financial and emotional support their children need. And, to help working families provide for their children, we are continuing our efforts to improve access to high-quality, safe, and affordable child care. We know that from infancy through adolescence, in child-care settings and after-school programs, children can learn and thrive with the right care, attention, and education. We owe them no less.

As we observe National Children's Day this year, let us recommit ourselves to using every resource in this time of unprecedented prosperity to build a bright future for all our children. Let us show our love for them not only through our words, but also by making the tough decisions and important investments necessary to give them the opportunity to achieve their dreams.

NOW, THEREFORE, I, WILLIAM J. CLINTON, President of the United States of America, by virtue of the authority vested in me by the Constitution and laws of the United States, do hereby proclaim October 8, 2000, as National Children's Day. I urge all Americans to express their love and appreciation for children on this day and every day throughout the year, and to work within their communities to nurture, love, and teach all our children. I invite Federal officials, State and local governments, and particularly all American families to join together in observing this day with appropriate programs, ceremonies, and activities to honor our Nation's children.

IN WITNESS WHEREOF, I have hereunto set my hand this sixth day of October, in the year of our Lord two thousand, and of the Independence of the United States of America the two hundred and twenty-fifth.

wj

[FR Doc. 00-26394

Filed 10-11-00; 8:45 am]

Billing code 3195-01-P